NATIONAL SCIENCE FOUNDATION

Call for Papers: National Symposium on Moving Target Research

AGENCY: The National Coordination Office (NCO) for Networking and Information Technology Research and Development (NITRD).

ACTION: Call for Papers (CFP).

FOR FURTHER INFORMATION, CONTACT: mtr-symposium@sei.cmu.edu.

DATES: To be considered, draft papers must be received by 18:00 EDT, April 2, 2012.

SUMMARY: This Call for Papers is being issued by the National Coordination Office for the Networking and Information Technology Research and Development (NITRD) Program to initiate the National Symposium on Moving Target Research. The Symposium intends to bring together and publish the work of the Moving Target cybersecurity research community to provide a basis for building on the current state of the art.

SUPPLEMENTARY INFORMATION: Background: In December 2011, the White House, in cooperation with the Networking and Information Technology Research and Development (NITRD) Program released the NSTC report “Trustworthy Cyberspace: Strategic Plan for the Federal Cybersecurity Research and Development Program.” One of the research themes outlined in this plan was Moving Target (MT), research and development that results in the presentation of a dynamic attack surface to an adversary, increasing the work factor necessary to successfully attack and exploit a cyber target. Throughout the federal government, research related to MT has been funded since 2009, but there is no single venue where this work is presented and published. The Symposium on Moving Target Research intends to bring together and publish the work of the MT community to provide a basis for building on the current state of the art.

Location: This Symposium will take place at the Historic Inns of Annapolis, Annapolis, MD on June 11, 2012. A registration site will be announced in April 2012 for attendees. A limited block of rooms will be available at the Historic Inns of Annapolis at the U.S. Government rate for June 10-13, 2012.

Objective: The central question of the symposium will be “is there scientific evidence to show that moving target techniques are a substantial improvement in the defense of cyber systems (a game changer),” including how to develop better measures of effectiveness and performance specific to moving target techniques. MT topics of interest include, but are not restricted to:

• Dynamic network services

• Game theoretic approaches

• Virtual machines

• Cloud computing

• Dynamic execution

• Automated response actions

• Situational awareness

• MT transparency

• Work factor metrics

• Risk analysis

• End-to-end security

• Resiliency

• Intrusion Tolerance

• Measures of effectiveness

Submission: Submitted papers must be 7-12 pages in 11 point font including figures and references. Appendences no longer than 8 pages may be submitted in addition to the paper, but the paper must be intelligible without these appendences. Submitted papers must not substantially overlap with papers that have been published or that are simultaneously submitted to a journal or conference proceedings. Papers will be subject to peer-review and selection based on technical rigor, application of scientific method, and contribution to the overall area of moving target. There will be an accompanying poster session open for researchers and companies that would like to highlight or demonstrate available MT technologies. Papers should be emailed in pdf format to (mtr-symposium@sei.cmu.edu) by 18:00 EDT, April 2, 2012 for consideration. You may also use this email address for any questions you have concerning this upcoming event.

Important Dates (all due dates/time 18:00 EDT):

Draft Papers due April 2, 2012

Notification April 20, 2012

Poster abstracts due May 4, 2012

Camera-ready copy due May 18, 2012

Symposium June 11, 2012, Annapolis, MD

Program Committee:

Matt Bishop, UC Davis

Deb Frincke, NSA

Matt Gaston, CMU

Sushil Jajodia, GMU

Tom Longstaff, NSA

Ed Rhyne, DHS

Bill Scherlis, CMU

Cliff Wang, ARO

Jeannette Wing, CMU

Submitted by the National Science Foundation for the National Coordination Office (NCO) for Networking and Information Technology Research and Development (NITRD) on March 1, 2012.

Suzanne H. Plimpton,
Reports Clearance Officer, National Science Foundation.

[FR Doc. 2012-5481 Filed 3-6-12; 8:45 am]

BILLING CODE 7555-01-P